DEPARTMENT OF COMMERCE

International Trade Administration

[A-201-837]

Certain Magnesia Carbon Bricks From Mexico: Rescission of Antidumping Duty Administrative Review; 2016-2017

AGENCY: Enforcement and Compliance, International Trade Administration, Department of Commerce.

SUMMARY: The Department of Commerce (Commerce) is rescinding its administrative review of the antidumping duty order on certain magnesia carbon bricks from Mexico for the period of review (POR) September 1, 2016, through August 31, 2017.

DATES: Applicable February 15, 2018.

FOR FURTHER INFORMATION CONTACT: Terre Keaton Stefanova, AD/CVD Operations, Office II, Enforcement and Compliance, International Trade Administration, U.S. Department of Commerce, 1401 Constitution Avenue NW, Washington, DC 20230; telephone: (202) 482-1280.

SUPPLEMENTARY INFORMATION:

Background

On September 1, 2016, Commerce published in the Federal Register a notice of opportunity to request an administrative review of the antidumping duty order on certain magnesia carbon bricks from Mexico for the POR.¹ Commerce received a timely request from the Magnesia Carbon Bricks Fair Trade Committee (the petitioner), in accordance with section 751(a) of the Tariff Act of 1930, as amended (the Act), and 19 CFR 351.213(b), to conduct an administrative review of this antidumping duty order.²

¹ See Antidumping or Countervailing Duty Order, Finding, or Suspended Investigation; Opportunity To Request Administrative Review, 82 FR 41595 (September 1, 2017).

² See Letter from the petitioner, regarding “Certain Magnesia Carbon Bricks from Mexico: Request For Administrative Review,” dated October 2, 2017.

On November 13, 2017, Commerce published in the Federal Register a notice of initiation with respect to RHI-Refmex SA de C.V. and Vesuvius Mexico S.A. de C.V.³ On January 29, 2018, the petitioner timely withdrew its request for an administrative review for both companies.⁴

³ See Initiation of Antidumping and Countervailing Duty Administrative Reviews, 82 FR 52268, 52270 (November 13, 2017).

⁴ See Letter from the petitioner, regarding “Certain Magnesia Carbon Bricks from Mexico: Withdrawal of Request For Administrative Review,” dated January 29, 2018.

Rescission of Administrative Review

Pursuant to 19 CFR 351.213(d)(1), Commerce will rescind an administrative review, in whole or in part, if the parties that requested a review withdraw the request within 90 days of the date of publication of the notice of initiation of the requested review. The petitioner withdrew its request for review by the 90-day deadline, and no other party requested an administrative review of this order. Therefore, we are rescinding the administrative review of the antidumping duty order on certain magnesia carbon bricks from Mexico covering the period September 1, 2016, through August 31, 2017.

Assessment

Commerce will instruct U.S. Customs and Border Protection (CBP) to assess antidumping duties on all appropriate entries. Because Commerce is rescinding this administrative review in its entirety, the entries to which this administrative review pertained shall be assessed at rates equal to the cash deposit of estimated antidumping duties required at the time of entry, or withdrawal from warehouse, for consumption, in accordance with 19 CFR 351.212(c)(1)(i). Commerce intends to issue appropriate assessment instructions directly to CBP 41 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with sections 751(a)(1) and 777(i)(1) of the Act and 19 CFR 351.213(d)(4).

Dated: February 9, 2018.
James Maeder,
Associate Deputy Assistant Secretary, for Antidumping and Countervailing Duty Operations performing the duties of Deputy Assistant Secretary for Antidumping and Countervailing Duty Operations.

[FR Doc. 2018-03163 Filed 2-14-18; 8:45 am]

BILLING CODE 3510-DS-P